DEPARTMENT OF TRANSPORTATION

Federal Aviation Administration

14 CFR Part 71

[Docket No. FAA-2005-23081; Airspace Docket No. 05-AAL-31]

RIN 2120-AA66

Amendments to Colored Federal Airways; AK

AGENCY: Federal Aviation Administration (FAA), DOT.

ACTION: Final rule.

SUMMARY: This action revokes Colored Federal Airway B-12, modifies three Colored Federal Airways B-4, R-50 and G-7, and establishes Colored Federal Airway R-4 in Alaska. These amendments remove all airways and routes off the Bishop, AK, Nondirectional Radio Beacon (NDB) in preparation for the NDB's eventual decommissioning from the National Airspace System (NAS).

DATES: Effective Date: 0901 UTC, June 8, 2006.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

History

In October 2005, it was determined that continued operation of the Bishop, AK, NDB was in jeopardy at its current location because of riverbank erosion along the Yukon River to within 150 feet of the NDB site. This action is needed to reconfigure the airways to exclude the Bishop, AK, NDB. On December 8, 2005, the FAA published in the Federal Register a notice of proposed rulemaking to amend several Colored Federal Airways in Alaska (70 FR 72949). Interested parties were invited to participate in this rulemaking effort by submitting written comments on the proposal. One comment was received. The commenter suggested that the Bishop NDB should not be decommissioned until Global Positioning System (GPS) becomes a viable Instrument Flight Rules (IFR) navigation system. He pointed out that on some airway segments, made up from the Bishop NDB, Minimum Enroute Altitude (MEA) are lower than those on the associated Very High Frequency Omnidirectional Range airways. He also pointed out that he believes that the NDB will not be affected by Yukon River erosion for several years. The FAA has authorized IFR GPS navigation in Alaska at or above Minimum Instrument Altitudes (MIA) between published waypoints. MIA altitudes are available that are as low as NDB MEAs. Pilots may request GPS routings in the area affected by the loss of the Bishop NDB. The erosion of the Yukon River bank is impossible to accurately predict. For safety purposes, the Bishop NDB has been out of service for several months already. With the exception of editorial changes, this amendment is the same as that proposed in the notice.

Colored Federal Airways are published in paragraph 6009 of FAA Order 7400.9N dated September 1, 2005 and effective September 15, 2005, which is incorporated by reference in 14 CFR 71.1. The Colored Federal Airways listed in this document will be published substantial in the order.

The Rule

The FAA is amending to Title 14 Code of Federal Regulations (14 CFR) part 71 by revoking Colored Federal Airway B-12, modifying three Colored Federal Airways B-4, R-50 and G-7, and establishing Colored Federal Airway R-4 in Alaska. The FAA is taking this action to remove all airways and routes off the Bishop NDB, AK, in preparation for the NDB's eventual decommissioning from the NAS.

The FAA has determined that this regulation only involves an established body of technical regulations for which frequent and routine amendments are necessary to keep them operationally current. Therefore, this regulation: (1) Is not a “significant regulatory action” under Executive Order 12866; (2) is not a “significant rule” under Department of Transportation Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 6009(d) Blue Federal Airways

* * * * *

B-12 [Revoked]

* * * * *

B-4 [Revised]

From Utopia Creek, AK, NDB; Evansville, AK, NDB; to Yukon River, AK, NDB.

* * * * *

Paragraph 6009(b) Red Federal Airways

* * * * *

R-4 [New]

From Chena, AK, NDB; to Bear Creek, AK, NDB

* * * * *

R-50 [Revised]

From Nanwak, AK, NDB; via Oscarville, AK, NDB; Anvik, AK, NDB.

* * * * *

Paragraph 6009(a) Green Federal Airways

* * * * *

G-7 [Revised]

From Gambell, AK, NDB; Fort Davis, AK, NDB; Norton Bay, AK, NDB

* * * * *

Issued in Washington, DC on February 22, 2006.
Edith V. Parish,
Manager, Airspace and Rules.

[FR Doc. 06-1913 Filed 2-28-06; 8:45 am]

BILLING CODE 4910-13-P